DEPARTMENT OF THE TREASURY

Office of Foreign Assets Control

Blocking of Specially Designated National Pursuant to Executive Order 13413

AGENCY: Office of Foreign Assets Control, Treasury.

ACTION: Notice.

SUMMARY: The Treasury Department's Office of Foreign Assets Control (“OFAC”) is publishing the name of one individual whose property and interests in property have been blocked pursuant to Executive Order 13413 of October 27, 2006, “Blocking Property of Certain Persons Contributing to the Conflict in the Democratic Republic of Congo”.

DATES: The designation by the Director of OFAC of the one individual identified in this notice, pursuant to Executive Order 13413 of October 27, 2006, is effective on June 24, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On October 27, 2006, the President signed Executive Order 13413 (the “Order”) pursuant to, inter alia, the International Emergency Economic Powers Act (50 U.S.C. 1701 et seq.) (IEEPA), section 5 of the United Nations Participation Act, as amended (22 U.S.C. 287c) (UNPA), and section 301 of title 3, United States Code. In the Order, the President found that the situation in the Democratic Republic of the Congo constitutes and unusual and extraordinary threat to the foreign policy of the United States. The President identified seven individuals as subject to the economic sanctions in the Annex to the Order.

Section 1 of the Order blocks, with certain exceptions, all property and interests in property that are in, or thereafter come within, the United States, or within the possession or control of United States persons, of the persons listed in the Annex, as well as those persons determined by the Secretary of the Treasury, after consultation with the Secretary of State, to meet any of the criteria set forth in subparagraphs (a)(ii)(A)—(a)(ii)(G) of Section 1.

On June 24, 2010, the Director of OFAC exercised the Secretary of the Treasury's authority to designate, pursuant to one or more of the criteria set forth in Section 1 of the Order, the individual listed below.

The listing of the blocked individual as follows:

KAKWAVU BUKANDE, Jerome (a.k.a. KAKAWAVU BAKONDE, Jerome; a.k.a. GAKWAVU BOKANDE, Jerome; a.k.a. GAGAKWAVU, Jerome); Kinshasa, Aru, Congo, Democratic Republic of the; DOB 1964; POB Masisi, Nord-Kivu, DRC; nationality Congo, Democratic Republic of the (individual) [DRCONGO]

Dated: June 24, 2010.
Adam J. Szubin,
Director, Office of Foreign Assets Control.

[FR Doc. 2010-15826 Filed 6-29-10; 8:45 am]

BILLING CODE 4811-45-P